DEPARTMENT OF HEALTH AND HUMAN SERVICES

National Institutes of Health

Submission for OMB Review; Comment Request; Validation of Questionnaires Used for Occupational Exposure Assessment in Case-Control Studies: Occupational History Questionnaire With Foundry Worker and Textile Industry Job Modules

SUMMARY: Under the provisions of Section 3507(a)(1)(D) of the Paperwork Reduction Act of 1995, the National Cancer Institute (NCI), the National Institutes of Health has submitted to the Office of Management and Budget (OMB) a request to review and approve the information collection listed below. This proposed information collection was previously published in the Federal Register on January 11, 2001, page 2433, Volume 66, No. 8, and allowed 60 days for public comment. No public comments were received. NCI fulfilled only one request for a copy of the study protocol and questionnaire.

The National Institutes of Health may not conduct or sponsor, and the respondent is not required to respond to, and information collection that has been extended, revised, or implemented on or after October 1, 1995, unless it displays a currently valid OMB control number.

Proposed Collection: Title: Validation of Questionnaires Used for Occupational Exposure Assessment in Case-Control Studies: Occupational History Questionnaire with Foundry Worker and Textile Industry Job Modules. Type of Information Collection Request: New. Need and Use of Information Collection: This study will investigate the validity and reliability of exposure assessments based on occupational history questionnaires supplemented with industry specific job modules as compared to exposure assessments made based on actual measurement taken in the workplace environments. The results will be used to assess the potential magnitude of exposure misclassification in case-control studies using these types of exposure assessment methods. Frequency of Response: One time study. Affected Public: Large and small factories in Shanghai, China. Type of Respondents: Factory workers. The annual burden is as follows: Estimated Number of Respondents: 120; Estimated Number of Responses per Respondent: 1; Average Burden Hours per Respondent: 0.5 hours; and Estimated Total Annual Burden Hours Requested: 60. There are no annualized costs to respondents. There are no Capital Costs to report and no Operating or Maintenance costs to report.

Request for Comments: Written comments and/or suggestions from the public and affected agencies are invited on one or more of the following points: (1) Whether the proposed collection of information is necessary for the proper performance of the agency, including whether the information will have practical utility; (2) The accuracy of the agency's estimate of the burden of the proposed collection of information, including the validity of the methodology and assumptions used; (3) Ways to enhance the quality, utility and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact Dr. Joseph Coble, Project Officer, National Cancer Institute, 6120 Executive Blvd, EPS 8110, Rockville, MD, 20892-7240, or call non-toll-free number (301) 435-4702, email your request to jcoble@mail.nih.gov.

Comments Due Date: Comments regarding this information collection are best assured of having their full effect if received on or before August 10, 2001.

Dated: July 2, 2001.
Reesa Nichols,
NCI Project Clearance Liaison.

[FR Doc. 01-17281 Filed 7-10-01; 8:45 am]

BILLING CODE 4140-01-M